DEPARTMENT OF TRANSPORTATION

Federal Aviation Administration

Air Traffic Procedures Advisory Committee

AGENCY: Federal Aviation Administration (FAA), DOT.

SUMMARY: The FAA is issuing this notice to advise the public that a meeting of the Federal Aviation Administration Air Traffic Procedures Advisory Committee (ATPAC) will be held to review present air traffic control procedures and practices for standardization, revision, clarification, and upgrading of terminology and procedures.

DATES: The meeting will be held Tuesday, January 13, 2009, from 9 a.m. to 4:30 p.m.

ADDRESSES: The meeting will be held at the International Air Transport Association (IATA) Headquarters, 703 Waterford Way, Suite 600, Miami, FL 33126.

FOR FURTHER INFORMATION CONTACT: Mr. Richard Jehlen, ATPAC Executive Director, 800 Independence Avenue, SW., Washington, DC 20591. Telephone (202) 493-4527.

SUPPLEMENTARY INFORMATION: Pursuant to Section 10(a)(2) of the Federal Advisory Committee Act (Pub. L. 92-463; 5 U.S.C. App.2), notice is hereby given of a meeting of the ATPAC to be held Tuesday, January 13, 2009, from 9 a.m. to 4:30 p.m.

The agenda for this meeting will cover a continuation of the ATPAC's review of present air traffic control procedures and practices for standardization, revision, clarification, and upgrading of terminology and procedures. It will also include:

1. Approval of Minutes;

2. Submission and Discussion of Areas of Concern;

3. Discussion of Potential Safety Items;

4. Report from Executive Director;

5. Items of Interest; and

6. Discussion and agreement of location and dates for subsequent meetings.

Attendance is open to the interested public but limited to space available. With the approval of the Chairperson, members of the public may present oral statements at the meeting. Persons desiring to attend and persons desiring to present oral statement should notify Mr. Richard Jehlen no later than December 29, 2008. Any member of the public may present a written statement to the ATPAC at any time at the address given above.

Issued in Washington, DC, on November 25, 2008.
Richard Jehlen,
Executive Director, Air Traffic Procedures Advisory Committee.

[FR Doc. E8-28494 Filed 12-1-08; 8:45 am]

BILLING CODE 4910-13-P